COMMISSION ON CIVIL RIGHTS

Notice of Public Meeting of the Tennessee Advisory Committee; Cancellation

AGENCY: Commission on Civil Rights.

ACTION: Notice; cancellation of meeting date.

SUMMARY: The Commission on Civil Rights published a notice in the Federal Register concerning a meeting of the Tennessee Advisory Committee. The meeting scheduled for Thursday, March 16, 2023, at 12:00 p.m. (CT) is cancelled. The notice is in the Federal Register of Tuesday, February 28, 2023, in FR Doc. 2023-04004, on page 12653-12654 (2 pages).

FOR FURTHER INFORMATION CONTACT: Victoria Moreno, (434) 515-0204. vmoreno@usccr.gov.

Dated: March 7, 2023.
David Mussatt,
Supervisory Chief, Regional Programs Unit.

[FR Doc. 2023-05031 Filed 3-10-23; 8:45 am]

BILLING CODE P